ENVIRONMENTAL PROTECTION AGENCY

40 CFR Part 52

[SIP NO. WY-001-0013, FRL-7784-8]

Approval and Promulgation of Air Quality Implementation Plans; Wyoming; Restructuring and Renumbering of Wyoming Air Quality Standards and Regulations

AGENCY: Environmental Protection Agency (EPA).

ACTION: Final rule.

SUMMARY: EPA is approving the State Implementation Plan (SIP) revision submitted by the State of Wyoming on September 12, 2003. The revision restructures the Wyoming Air Quality Standards and Regulations (WAQS&R) from a single chapter into thirteen separate chapters and renumbers the provisions within each chapter. The submitted revision contains no substantive changes to the existing SIP-approved regulations. The intended effect of this action is to make federally enforceable the restructured WAQS&R. This action is being taken under section 110 of the Clean Air Act.

DATES: This final rule is effective August 27, 2004.

ADDRESSES: EPA has established a docket for this under Docket ID No. WY-001-0013. Some information in the docket may not be publicly available, i.e., Confidential Business Information (CBI) or other information whose disclosure is restricted by statute. Publicly available docket materials are available in hard copy at the Air and Radiation Program, Environmental Protection Agency (EPA), Region 8, 999 18th Street, Suite 300, Denver, Colorado 80202-2466. EPA requests that if at all possible, you contact the individual listed in the FOR FURTHER INFORMATION CONTACT section to view the docket. You may view the docket Monday through Friday, 8 a.m. to 4 p.m., excluding Federal holidays. Copies of the Incorporation by Reference material are also available at the Air and Radiation Docket and Information Center, U.S. Environmental Protection Agency, Room B-108 (Mail Code 6102T), 1301 Constitution Ave., NW., Washington, DC 20460.

FOR FURTHER INFORMATION CONTACT: Domenico Mastrangelo, Air & Radiation Program, Mailcode 8P-AR, EPA, Region 8, 999 18th Street, Suite 300, Denver, Colorado 80202-2466, (303) 312-6436, mastrangelo.domenico@epa.gov.

SUPPLEMENTARY INFORMATION:

Table of Contents

I. Summary of SIP Revision

II. Final Action

III. Statutory and Executive Order Reviews

Definitions

For the purpose of this document, we are giving meaning to certain words or initials as follows:

(i) The words or initials Act or CAA mean or refer to the Clean Air Act, unless the context indicates otherwise.

(ii) The words EPA, we, us or our mean or refer to the United States Environmental Protection Agency.

(iii) The initials SIP mean or refer to State Implementation Plan.

(iv) The words State or Wyoming mean the State of Wyoming, unless the context indicates otherwise.

I. Summary of SIP Revision

On May 10, 2004 (69 FR 25866), EPA published a notice of proposed rulemaking (NPR) for the State of Wyoming. The NPR proposed approval of a State Implementation Plan (SIP) revision restructuring and renumbering the Wyoming Air Quality Standards and Regulations (WAQS&R). The formal SIP revision was submitted by the State of Wyoming on September 12, 2003. The SIP revision restructures the WAQS&R from a single chapter into thirteen separate chapters and renumbers the provisions within each chapter. The revision contains no substantive changes from the prior codification that is approved into the SIP.

The following table cross references the renumbered and prior numbered SIP chapters and sections. The table identifies the renumbered SIP sections we are approving as replacing the prior numbered SIP sections.

State Implementation Plan—Table of Corresponding Chapters/Sections
Title (renumbered SIP section) | Renumbered SIP section | Prior numbered SIP section
Authority | Chapter 1, Section 2 | Chapter 1, Section 1
Definitions | Chapter 1, Section 3 | Chapter 1, Section 2
Diluting and concealing emissions | Chapter 1, Section 4 | Chapter 1, Section 18
Abnormal conditions and equipment malfunction | Chapter 1, Section 5 | Chapter 1, Section 19
Ambient standards for particulate matter | Chapter 2, Sections 2a and 2c only | Chapter 1, Section 3
Ambient standards for nitrogen oxides | Chapter 2, Section 3 | Chapter 1, Section 10a
Ambient standards for sulfur oxides | Chapter 2, Section 4 | Chapter 1, Section 4a
Ambient standards for carbon monoxide | Chapter 2, Section 5 | Chapter 1, Section 12a
Ambient standards for ozone | Chapter 2, Section 6 | Chapter 1, Section 8
Ambient standards for suspended sulfates | Chapter 2, Section 8 | Chapter 1, Section 6
Ambient standards for lead | Chapter 2, Section 10 | Chapter 1, Section 26
Emission standards for particulate matter | Chapter 3, Section 2 | Chapter 1, Section 14
Emission standards for nitrogen oxides | Chapter 3, Section 3 | Chapter 1, Section 10b-c, excluding 10b(6)
Emission standards for sulfur oxides | Chapter 3, Section 4 | Chapter 1, Section 4c, 4(h)
Emission standards for carbon monoxide | Chapter 3, Section 5 | Chapter 1, Section 12b
Emission standards for VOCs | Chapter 3, Section 6 | Chapter 1, Section 9
Existing sulfuric acid production units | Chapter 4, Section 2 | Chapter 1, Section 5(a), 4b
Existing nitric acid manufacturing plants | Chapter 4, Section 3 | Chapter 1, Section 10b(6)
Permit requirements for construction, modification and operation | Chapter 6, Section 2 | Chapter 1, Section 21
Prevention of significant deterioration | Chapter 6, Section 4 | Chapter 1, Section 24
Continuous monitoring requirements for existing sources | Chapter 7, Section 2 | Chapter 1, Section 23
Sweetwater County particulate matter regulations | Chapter 8, Section 2 | Chapter 1, Section 25
Conformity of general federal actions to state implementation plans | Chapter 8, Section 3 | Chapter 1, Section 32
Visibility | Chapter 9, Section 2 | Chapter 1, Section 28
Open burning restrictions | Chapter 10, Section 2 | Chapter 1, Section 13
Wood waste burners | Chapter 10, Section 3 | Chapter 1, Section 15
Air pollution emergency episodes | Chapter 12, Section 2 | Chapter 1, Section 20
Motor vehicle pollution control | Chapter 13, Section 2 | Chapter 1, Section 17

II. Final Action

EPA received no comments on the May 10, 2004 notice of proposed rulemaking. As proposed, EPA is approving the Restructuring and Renumbering of Wyoming Air Quality Standards and Regulations submitted by the Governor of Wyoming on September 12, 2003 as a revision to the Wyoming SIP.

The table in Section I above identifies the renumbered SIP chapters and sections we are approving as replacing the prior numbered SIP chapter and sections in the federally approved SIP. The renumbered provisions were adopted September 13, 1999 and effective October 29, 1999.

Section 110(l) of the Clean Air Act states that a SIP revision cannot be approved if the revision would interfere with any applicable requirement concerning attainment and reasonable further progress towards attainment of the NAAQS or any other applicable requirements of the Act. We believe the Wyoming SIP revision that is the subject of this document will not interfere with any applicable requirement concerning attainment and reasonable further progress towards attainment of the NAAQS or any other applicable requirements of the Act because the State is merely restructuring and renumbering its SIP and the State's revision is no less stringent than the requirements currently contained in their SIP.

III. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 27, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: June 30, 2004.
Aundrey Wilkins,
Acting Regional Administrator, Region 8.

40 CFR part 52 is amended to read as follows:

PART 52—[AMENDED]

1. The authority citation for part 52 continues to read as follows:

Authority: 42 U.S.C. 7401 et seq.

Subpart ZZ—Wyoming

2. Section 52.2620 is amended by adding paragraph (c)(30) to read as follows:

§ 52.2620 Identification of plan.

* * * * *

(c) * * *

(30) On September 12, 2003, the Governor of Wyoming submitted a revision to the State Implementation Plan. The revision restructures the Wyoming Air Quality Standards and Regulations (WAQS&R) from a single chapter into thirteen separate chapters and renumbers the provisions within each chapter. The submitted revision contains no substantive changes to the existing SIP-approved regulations. The provisions listed in paragraph (c)(30)(i)(A) are approved into the SIP and supersede and replace the prior codification of the corresponding provisions of the SIP.

(i) Incorporation by reference.

(A) Wyoming Air Quality Standards and Regulations: Chapter 1: Section 2—Authority, Section 3—Definitions, Section 4—Diluting and concealing emissions, Section 5—Abnormal conditions and equipment malfunction; Chapter 2: Section 2—Ambient standards for particulate matter, paragraphs 2(a) and 2(c) only, Section 3—Ambient standards for nitrogen oxides, Section 4—Ambient standards for sulfur oxides, Section 5—Ambient standards for carbon monoxide, Section 6—Ambient standards for ozone, Section 8—Ambient standard for suspended sulfates, Section 10—Ambient standards for lead; Chapter 3: Section 2—Emission standards for particulate matter, Section 3—Emission standards for nitrogen oxides, Section 4—Emission standards for sulfur oxides, Section 5—Emission standards for carbon monoxide, Section 6—Emission standards for volatile organic compounds; Chapter 4: Section 2—Existing sulfuric acid production units, Section 3—Existing nitric acid manufacturing plants; Chapter 6: Section 2—Permit requirements for construction, modification and operation, Section 4—Prevention of significant deterioration; Chapter 7: Section 2—Continuous monitoring requirements for existing sources; Chapter 8: Section 2—Sweetwater County particulate matter regulations, Section 3—Conformity of general federal actions to state implementation plans; Chapter 9: Section 2—Visibility; Chapter 10: Section 2—Open burning restrictions, Section 3—Wood waste burners; Chapter 12: Section 2—Air pollution emergency episodes; Chapter 13: Section 2—Motor vehicle pollution control; all adopted September 13, 1999 and effective October 29, 1999.

(ii) Additional Material.

(A) Remainder of the September 12, 2003 State submittal.

(B) January 12, 2004 letter from Dan Olson, Wyoming Department of Environmental Quality (DEQ), to Richard Long, EPA Region VIII, to address typographical errors and incorrect cross references identified in the September 12, 2003 submittal.

(C) March 22, 2004 letter from Richard Long, EPA Region VIII, to John Corra, Wyoming DEQ, requesting clarification on the State's commitment to submit substantive SIP revisions following EPA's approval of the restructured and renumbered WAQS&R provisions. In this letter, EPA also asked DEQ to indicate time frames in which DEQ would submit substantive SIP revisions.

(D) March 29, 2004 letter from John Corra, Wyoming DEQ, to Richard Long, EPA Region VIII, addressing the concerns expressed in Mr. Long's March 22, 2004 letter.

[FR Doc. 04-17167 Filed 7-27-04; 8:45 am]

BILLING CODE 6560-50-P